DEPARTMENT OF THE INTERIOR

Bureau of Land Management

[ID-300-1110-PI]

Notice of Public Meeting, Idaho Falls District Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The RAC will next meet in Idaho Falls, Idaho on August 29 and 30, 2007. Day 1 of this meeting will start at 1 p.m. and will include an hour-long discussion of proposed fee changes for the U.S. Forest Service in Eastern and Central Idaho. The remainder of the day and the following day will be tours of the St. Anthony Sand Dunes and the South Fork of the Snake River, respectively. The public will be responsible for their own transportation and food if they desire to join the RAC on the tours. Other subjects named above will be the status of the Upper Snake Field Office's recreation program, lands and realty initiatives on the South Fork, noxious weed control, and other topics of relevance to the tour.

SUPPLEMENTARY INFORMATION: The 15-member Council advises the Secretary of the Interior, through the Bureau of Land Management, on a variety of planning and management issues associated with public land management in the BLM Idaho Falls District (IFD), which covers eastern Idaho.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: David Howell, RAC Coordinator, Idaho Falls District, 1405 Hollipark Dr., Idaho Falls, ID 83401. Telephone (208) 524-7559. E-mail: David_Howell@blm.gov.

Dated: July 19, 2007.
David Howell,
RAC Coordinator.

[FR Doc. E7-14384 Filed 7-24-07; 8:45 am]

BILLING CODE 4310-GG-P